DEPARTMENT OF EDUCATION

Notice of Submission for OMB Review

AGENCY: Department of Education.

ACTION: Comment request.

SUMMARY: The Director, Information Collection Clearance Division, Regulatory Information Management Services, Office of Management invites comments on the submission for OMB review as required by the Paperwork Reduction Act of 1995 (Pub. L. 104-13).

DATES: Interested persons are invited to submit comments on or before January 28, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. Chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: December 23, 2010.
Darrin A. King,
Director, Information Collection Clearance Division, Regulatory Information Management Services, Office of Management.

Office of Innovation and Improvement

Type of Review: Extension.

Title of Collection: TEACH.gov Job Listing Collection.

OMB Control Number: 1855-0022.

Agency Form Number(s): N/A.

Frequency of Responses: On Occasion.

Affected Public: Businesses or other for-profit; Not-for-profit institutions; State, Local, or Tribal Government, State Educational Agencies or Local Educational Agencies.

Total Estimated Number of Annual Responses: 60,000.

Total Estimated Annual Burden Hours: 4,500.

Abstract: TEACH.gov will be a Web site clearinghouse for information necessary to become a PK-12 teacher, including, but not limited to: career preparation information, financial aid packages, certification resources, job listings and state/district profiles. TEACH.gov will also provide inspirational material to help promote and raise the perception of the teaching profession.

This Information Collection Request (ICR) represents the job listing section of TEACH.gov. TEACH.gov will offer a section on the Web site displaying existing teacher job listings. TEACH.gov does not aim to become a “job bank”, but an aggregator and referral source to other publically available existing Web site listings. TEACH.gov will display a limited amount of job listing information on its Web site and the viewer will click through the source Web site link to view the full job description and application instructions.

The publishers of a job listing may be: a commercial or non-profit job listing service, a state educational agency (State Department of Education), a local educational agency (school district) or a school not operating within a school district. For the launch of TEACH.gov, the Web site will collect and publish public school teacher jobs, Pre-Kindergarten through Grade 12.

Requests for copies of the information collection submission for OMB review may be accessed from the RegInfo.gov Web site at http://www.reginfo.gov/public/do/PRAMain or from the Department's Web site at http://edicsweb.ed.gov, by selecting the “Browse Pending Collections” link and by clicking on link number 4472. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2010-32791 Filed 12-28-10; 8:45 am]

BILLING CODE 4000-01-P